ENVIRONMENTAL PROTECTION AGENCY

[EPA-HQ-OPPT-2022-0132; FRL-9411-08]

Certain New Chemicals; Receipt and Status Information for August 2022

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 08/01/2022 to 08/31/2022.

DATES: Comments identified by the specific case number provided in this document must be received on or before October 24, 2022.

ADDRESSES: Submit your comments, identified by docket identification (ID) number EPA-HQ-OPPT-2022-0132, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Jim Rahai, Project Management and Operations Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 08/01/2022 to 08/31/2022. The Agency is providing notice of receipt of PMNs, SNUNs, and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: https://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved* From 08/01/2022 to 08/31/2022
Case No. | Version | Received date | Manufacturer | Use | Chemical substance
J-22-0017 | 1 | 08/09/2022 | CBI | (G) Production of an enzyme | (G) Microorganisms transformed to express an enzyme.
J-22-0017A | 2 | 08/22/2022 | CBI | (G) Production of an enzyme | (G) Microorganisms transformed to express an enzyme.
J-22-0018 | 1 | 08/09/2022 | CBI | (G) Production of an enzyme | (G) Microorganisms transformed to express an enzyme.
J-22-0018A | 2 | 08/22/2022 | CBI | (G) Production of an enzyme | (G) Microorganisms transformed to express an enzyme.
P-18-0057A | 16 | 08/01/2022 | CBI | (S) A drier accelerator that is used for superior drying performance in solvent-borne and waterborne air dried paints, inks and coatings | (G) Vanadium Carboxylate.
P-18-0162A | 6 | 07/27/2022 | CBI | (G) Adhesive component | (G) Cashew nutshell liquid, polymer with diisocyanatoalkane, substituted-polyoxyalkyldiol and polyether polyol.
P-21-0016A | 3 | 08/08/2022 | CBI | (G) Paint additive, Additive in coating formulations, Component in cleaning agents | (G) Alkanoic acid, dialkyl ester.
P-21-0138A | 4 | 08/04/2022 | LG Energy Solution Michigan, Inc | (S) Electrode material for use in the manufacture of batteries | (G) Lithium metal oxide.
P-22-0017A | 3 | 08/03/2022 | Sasol Chemicals (USA), LLC | (S) Alkylate for polymer esters | (S) 1-Eicosanol, manuf. of, distn., residues.
P-22-0017A | 4 | 08/11/2022 | Sasol Chemicals (USA), LLC | (S) Alkylate for polymer esters | (S) 1-Eicosanol, manuf. of, distn., residues.
P-22-0028A | 4 | 08/12/2022 | H.B. Fuller Company | (S) Industrial Adhesive | (G) Polyester with 1,4-benzenedicarboxylic acid, 1,4-dimethyl 1,4-benzebedicarboxylate, 2,2-dimethyl-1,3-propanediol, dodecanedioic acid, 1,2-ethanediol, aliphatic polyester, 3-hydroxy-2,2-dimethylpropyl 3-hydroxy-2,2-dimethylpropanoate, 1,3-isobenzofurandione and 1,1′-methylenebis[4-isocyanatobenzene].
P-22-0029A | 4 | 08/12/2022 | H.B. Fuller Company | (S) Industrial Adhesive | (G) Polyester with 1,4-benzenedicarboxylic acid, 1,4-dimethyl 1,4-benzebedicarboxylate, 2,2-dimethyl-1,3-propanediol, dodecanedioic acid, 1,2-ethanediol, aliphatic polyester, 3-hydroxy-2,2-dimethylpropyl 3-hydroxy-2,2-dimethylpropanoate, 1,3-isobenzofurandione and 1,1′-methylenebis[isocyanatobenzene].
P-22-0030A | 4 | 08/12/2022 | H.B. Fuller Company | (S) Industrial Adhesive | (G) Polyester with 1,4-benzenedicarboxylic acid, 2,2-dimethyl-1,3-propanediol, dodecanedioic acid, 1,2-ethanediol, aliphatic polyester, 3-hydroxy-2,2-dimethylpropyl 3-hydroxy-2,2-dimethylpropanoate, 1,3-isobenzofurandione and 1,1′-methylenebis[4-isocyanatobenzene].
P-22-0031A | 4 | 08/12/2022 | H.B. Fuller Company | (S) Industrial Adhesive | (G) Polyester with 1,4-benzenedicarboxylic acid, 2,2-dimethyl-1,3-propanediol, dodecanedioic acid, 1,2-ethanediol, aliphatic polyester, 3-hydroxy-2,2-dimethylpropyl 3-hydroxy-2,2-dimethylpropanoate, 1,3-isobenzofurandione and 1,1′-methylenebis[isocyanatobenzene].
P-22-0053 | 3 | 08/02/2022 | CBI | (G) Additive in agricultural formulations | (S) Ethanol, 2-amino-, compds. with polyethylene glycol hydrogen sulfate C10-16-alkyl ether.
P-22-0058 | 2 | 08/15/2022 | Solvay Fluorides, LLC | (G) Process chemical | (S) Methanesulfonamide,1,1,1-trifluoro-N-[(trifluoromethyl)sulfonyl]-, sodium salt (1:1).
P-22-0058A | 3 | 08/19/2022 | Solvay Fluorides, LLC | (G) Process chemical | (S) Methanesulfonamide,1,1,1-trifluoro-N-[(trifluoromethyl)sulfonyl]-, sodium salt (1:1).
P-22-0093 | 2 | 07/28/2022 | CBI | (G) Additive used for pigment stabilization | (G) Alkenoic acid, alkyl-substituted alkyl ester, polymer with (polyalkylamino)alkyl alkylalkenoate, alkyl-substituted alkylalkenoate, alpha-(alkyl-oxo-alkenyl)-omega-alkoxypoly(oxy-1,2-ethanediyl), [(alkoxy-alkyl-alkenyl)oxy]polyalkylsilane-initiated, compds. with polyethylene glycol phosphoric acid based alkyl ether.
P-22-0121A | 2 | 07/28/2022 | CBI | (G) Process Intermediate: New chemical substance will be used as a process intermediate | (G) polychloroalkene.
P-22-0130A | 3 | 08/19/2022 | Integrity Bio-chemical, LLC | (S) Surfactant—surface tension reducing agent for use in production enhancement in oil wells (industrial); Emulsifier, surface reduction household and industrial detergents; wetting agent personal care; wetting agent- agriculture; surfactants—as raw materials for use in the manufacture of industrial products and consumer and household products | (S) Maltodextrin, octanoate.
P-22-0131A | 3 | 08/19/2022 | Integrity Bio-chemical, LLC | (S) Surfactant—surface tension reducing agent for use in production enhancement in oil wells (industrial); Emulsifier, Surface reduction household and industrial detergents; Emulsifier, Wetting agent Personal care; Wetting agent—Agriculture; Surfactants—as raw materials for use in the manufacture of industrial products and consumer and household products | (S) Maltodextrin, hexadecanoate.
P-22-0132A | 3 | 08/19/2022 | Integrity Bio-chemical, LLC | (S) Surfactant—surface tension reducing agent for use in production enhancement in oil wells (industrial); Emulsifier, Surface reduction Household and industrial detergents; Emulsifier, Wetting agent Personal care; Wetting agent—Agriculture; Surfactants—as raw materials for use in the manufacture of industrial products and consumer and household products | (S) Maltodextrin, decanoate.
P-22-0133A | 3 | 08/19/2022 | Integrity Bio-chemical, LLC | (S) Surfactant—surface tension reducing agent for use in production enhancement in oil wells (industrial); Emulsifier, Surface reduction formulation of household and industrial detergents; Emulsifier, Wetting agent Personal care; Wetting agent—Agriculture; Surfactants—as raw materials for use in the manufacture of personal care and household care products (e.g., cleaners) | (S) Maltodextrin, octadecanoate.
P-22-0134A | 3 | 08/19/2022 | Integrity Bio-chemical, LLC | (S) Surfactants—as raw materials for use in the manufacture of personal care and household care products (e.g., cleaners); Wetting agent—Agriculture, Surfactant—surface tension reducing agent for use in production enhancement in oil wells (industrial); Emulsifier, Surface reduction formulation of household and industrial detergents; Emulsifier, Wetting agent Personal care | (S) Maltodextrin, dodecanoate.
P-22-0135A | 3 | 08/19/2022 | Integrity Bio-chemical, LLC | (S) Emulsifier, Wetting agent Personal care; Emulsifier, Surface reduction formulation of household and industrial detergents; Wetting agent—Agriculture; Surfactants—as raw materials for use in the manufacture of personal care and household care products (e.g., cleaners); Surfactant—surface tension reducing agent for use in production enhancement in oil wells (industrial) | (S) Maltodextrin, tetradecanoate.
P-22-0139 | 3 | 08/11/2022 | CBI | (G) Antioxidant/Process Stabilizer | (G) dialkylhydroxylamine.
P-22-0144A | 2 | 07/27/2022 | United Color Manufacturing | (G) Intermediate | (G) Alkylated PhenylNaphthylamine.
P-22-0147A | 3 | 08/18/2022 | VP Racing Fuels, Inc | (S) Feedstock for Gasoline to include Racing Fuels | (S) Hydrocarbons, C5-10.
P-22-0149 | 3 | 08/08/2022 | Colonial Chemical, Inc | (S) All purpose hard surface cleaner; Low foam floor scrubber; Spray Metal Cleaning Concentrate | (S) Hexanoic acid, 3,5,5-trimethyl-, sodium salt (1:1).
P-22-0152 | 1 | 07/26/2022 | CBI | (G) Photolithography | (G) Sulfonium, tricabocyclic-, 2-heteroatom-substituted-4-alkylcarbomonocyclecarboxylate (1:1).
P-22-0153 | 2 | 08/18/2022 | Huntsman International, LLC | (S) Notified substance will be used as an adhesion promoter in a resin used for adhesive and/or sealants in industrial assembly or manufacturing operations. Through small scale application on assembly line, manual use, or automated use by dispensing unit; Notified substance will be used as an adhesion promoter in a resin used for adhesive and/or sealants in outdoor repair operations by professional workers. Application of adhesives and primers outdoors. Small scale application of adhesives, sealants or primers. Small scale application of reactive adhesives and sealants. Application of reactive sealants | (S) 2-Propenoic acid, 2-methyl-, 2-hydroxyethyl ester, reaction products with 2-oxepanone homopolymer 2-[(2-methyl-1-oxo-2-propen-1-yl)oxy]ethyl] ester and phosphorous oxide (P2O5).
P-22-0154 | 1 | 07/26/2022 | Givaudan Fragrances Corp | (G) Fragrance ingredient for use in laundry applications | (G) Acetyl, alkyl, alkenoic acid, ethyl ester.
P-22-0155 | 1 | 08/01/2022 | CBI | (G) Physical property modifier for polyurethanes; Modifier for polyurethane blends | (G) 2-alkyl-1,2-heteropolycycle-3-one.
P-22-0156 | 1 | 08/08/2022 | CBI | (G) Epoxy additive | (G) Alkyl substituted carbopolycyclic acids, fumarated, and heteromonocyclic esters.
P-22-0157 | 1 | 08/10/2022 | Evonik Corporation | (S) Polyurethane catalyst | (S) 1,2-Ethanediamine, N1,N2-dimethyl-N1-(1-methylethyl)-N2-[2-[methyl(1-methylethyl)amino]ethyl]-.
P-22-0158 | 1 | 08/11/2022 | Aqdot | (G) Additive used in consumer, commercial, and industrial applications | (S) 1H,4H,14H,17H-2,16:3,15-Dimethano-5H,6H,7H,8H,9H,10H,11H,12H,13H,18H,19H,20H,21H,22H,23H,24H,25H,26H-2,3,4a,5a,6a,7a,8a,9a,10a,11a,12a,13a,15,16,17a,18a,19a,20a,21a,22a,23a,24a,25a,26a-tetracosaazabispentaleno[1″′,6″′:5″,6″,7″]cycloocta[1″,2″,3″:3′,4′]pentaleno[1′,6′:5,6,7]cycloocta[1,2,3-gh:1′,2′,3′-g′h′]cycloocta[1,2,3-cd:5,6,7-c′d′]dipentalene-1,4,6,8,10,12,14,17,19,21,23,25-dodecone, dodecahydro-, stereoisomer;(S) 2,18:3,17-Dimethano-2,3,4a,5a,6a,7a,8a,9a,10a,11a,12a,13a,14a,15a,17,18,19a,20a,21a,22a,23a,24a,25a,26a,27a,28a,29a,30aoctacosaazabispentaleno[1″″′,6″″″′:5″″,6″″,7″″]cycloocta[1″″,2″″,3″″:3″′,4″′]pentaleno[1″′,6″′:5″,6″,7″]cycloocta[1″,2″,3″:3′,4′]pentaleno[1′,6′:5,6,7]cycloocta[1,2,3-cd:1′,2′,3′-gh]pentalene-1,4,6,8,10,12,14,16,19,21,23,25,27,29-tetradecone, tetradecahydro-, stereoisomer;(S) 2,20:3,19-Dimethano-2,3,4a,5a,6a,7a,8a,9a,10a,11a,12a,13a,14a,15a,16a,17a,19,20,21a,22a,23a,24a,25a,26a,27a,28a,29a,30a,31a,32a,33a,34adotriacontaazabispentaleno[1″″′,6″″′:5″″,6″″,7″″]cycloocta[1″″,2″″,3″″:3″′,4″′]pentaleno[1″′,6″′:5″,6″,7″]cycloocta[1″,2″,3″:3′,4′]pentaleno[1′,6′:5,6,7]cycloocta[1,2,3-gh:1′,2′,3′-g′h′]cycloocta[1,2,3-cd:5,6,7-c′d′]dipentalene-1,4,6,8,10,12,14,16,18,21,23,25,27,29,31,33-hexadecone, hexadecahydro-, stereoisomer.
P-22-0159 | 1 | 08/12/2022 | CBI | (G) Additive | (G) Poly[oxy(methyl-1,2-ethanediyl)], alpha-hydro-omega-hydroxy-, polymer with 1,3-diisocyanatomethylbenzene, alkoxyl methacrylate-blocked.

Case No. | Version | Received date | Manufacturer | Use | Chemical substance
P-22-0160 | 1 | 08/12/2022 | Cytec Industries, Inc | (G) Industrial process chemical | (S) 1lambda5-2,1-Benzoxaphosphol-3(1H)-one, 1,1-dicyclohexyl-.
P-22-0161 | 1 | 08/12/2022 | CBI | (G) Photolithography | (G) Sulfonium, tricarbocyclic-, salt with [polyhydro-2-alkyl-5-(polyhalo-2-heteroalkyl)-alkano-1,3-hetropolycyclic]alkyl polyhaloaryl ester (1:1).
P-22-0162 | 3 | 08/15/2022 | CBI | (S) Intermediate used in the production of para-xylene (pX),(S) Flexible intermediate used in the production of FDCA/PET and other specialty chemicals | (G) Haloalkylfurancarboxaldehyde.
P-22-0167 | 1 | 08/26/2022 | CBI | (G) Photolithography | (G) 1,2-Cycloalkanedicarboxylic acid, 1,2-bis(2-oxiranylalkyl) ester, reaction products with unsaturated carboxylic acid.

Table I—PMN/SNUN/MCANs Approved* From 08/01/2022 to 08/31/2022—Continued
Case No. | Version | Received date | Manufacturer | Use | Chemical substance
SN-22-0002A | 3 | 08/26/2022 | Eastman Chemical Company, Inc | (S) Solvent-borne coatings; Dispersions for industrial coatings (e.g., polyurethane, acrylic, epoxy); Current, Approved Use: Paint removers; Current, Approved Use: Solvent for formulation of active ingredients for agriculture-end use pesticide product; Current, Approved Use: Solvent for production and formulation of active ingredients for agriculture; Current, Approved Use: Solvents for production and formulation of fertilizer; Current, Approved Use: Paint stripper only for industrial use; Current, Approved Use: Petrochemical extraction processes; Current, Approved Use: Wax inhibitors (in hydrocarbon lines); Current, Approved Use: Solvent for cleaning industrial reactors; Current, Approved Use: Industrial cleaner (e.g., cleaner for wind turbine, oil rigs, large engines); Current, Approved Use: Formulation of inks; Current, Approved Use: Coatings for microelectronics (e.g., casting of polymer films) in clean rooms; Current, Approved Use: Solvent for chemical synthesis reactions; Current, Approved Use: Reaction medium for polymerization, polymer coatings for industrial and professional applications (e.g., wire enamel, non-stick and friction reduction coating) membranes; Current, Approved Use: Photoresist stripping in microelectronics in clean rooms; Current, Approved Use: Silicon wafer cleaning in microelectronics in clean rooms; Current, Approved Use: Solvent-borne industrial coatings; Current, Approved Use: Adhesives and sealants; Current, Approved Use: Coating for consumer and professional use; (G) Industrial Cleaner; Solvent for article production; Reprocessing; Reaction medium for polymerization, polymer coatings for industrial and professional applications; Coatings for commercial use, spray coating; Consumer use other than brush on; Coatings for consumer use, brush on coatings | (S) 2-Pyrrolidinone, 1-butyl-.
SN-22-0007A | 3 | 08/16/2022 | Braven Environmental, LLC | (G) Product of Pyrolysis manufacturing | (S) Waste plastics, pyrolyzed, C5-12 fraction.
SN-22-0008A | 3 | 08/16/2022 | Braven Environmental, LLC | (G) Product of Pyrolysis Manufacturing | (S) Waste plastics, pyrolyzed, C20-55 fraction.
SN-22-0009A | 3 | 08/16/2022 | Braven Environmental, LLC | (G) Product of Pyrolysis Manufacturing | (S) Waste plastics, pyrolyzed, C9-20 fraction.
SN-22-0010A | 2 | 08/05/2022 | CBI | (S) Monomer chemical, reactive diluent in UV coating formulations (this is new use); Reactive diluent for 3D printing formulations (existing use, approved by PMN P18-0392); Monomer or reactive diluent in UV-inkjet and screen printing ink formulations (existing use, approved by PMN P-18-0392); Reactive diluent, additive in UV adhesive formulations (this is new use) | (S) 2-Oxazolidinone, 3-ethenyl-5-methyl-.
* The term `Approved' indicates that a submission has passed a quick initial screen ensuring all required information and documents have been provided with the submission prior to the start of the 90 day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 08/01/2022 to 08/31/2022
Case No. | Received date | Commencement date | If amendment, type of amendment | Chemical substance
J-22-0011 | 07/27/2022 | 07/25/2022 | N | (G) Biofuel producing saccharomyces cerevisiae modified, genetically stable.
P-11-0242A | 08/02/2022 | 07/09/2021 | Revised generic name and added manufacturing/import site | (G) Bicycloolefinic hydroxyester.
P-15-0734 | 08/11/2022 | 08/02/2022 | N | (G) Acrylate, polymer with substituted ethyleneamine.
P-18-0289A | 08/17/2022 | 06/22/2022 | Revised generic name | (G) 2-(2(phenylmethylene)amino)ethoxy)-alcohol.
P-18-0290A | 08/17/2022 | 06/22/2022 | Revised generic name | (G) Phenyl-oxazolidine.
P-19-0046 | 08/24/2022 | 05/03/2019 | N | (S) 1,2,4-benzenetricarboxylic acid, mixed decyl and octyl triesters.
P-19-0143 | 08/07/2022 | 07/21/2022 | N | (G) Aldehyde, polymer with mixed alkanepolyamines, 2,2-[1,4-alkanediylbis(oxyalkylene)] bis[oxirane], 2-(alkoxyalkyloxirane, 4,4-(1-alkylidene)bis[phenol], 2,2-[(1-alkylidene)bis(4,1-alkyleneoxyalkylene)]bis[oxirane] and 2-(aryloxyalkyl)oxirane, acetate (salt).
P-19-0144 | 08/07/2022 | 07/21/2022 | N | (G) Alkanedioic acid, compds. with substituted arylalkylamine-arylalcohol disubstituted alkane—the diglycidyl ether of a arylalcohol disubstituted alkane-epichlorohydrin-aldehyde-2,2-[(1-alkylidene)bis[4,1-aryleneoxy(alkyl-2,1-alkanediyl)oxyalkylene]]bis[oxirane]-alkanepolyamine polymer-1-[[2-[(2-aminoalkyl)amino]alkyl]amino]-3-aryloxy-2-alcohol reaction products.
P-20-0127 | 08/29/2022 | 08/23/2022 | N | (S) 2h-pyran, tetrahydro-4-methyl-.
P-21-0196 | 08/17/2022 | 07/20/2022 | N | (S) 5h-1,2-oxathiole, 2,2-dioxide.
P-21-0197 | 08/17/2022 | 07/20/2022 | N | (G) Imidazole-carboxylic acid, substituted.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 08/01/2022 to 08/31/2022
Case No. | Received date | Type of test information | Chemical substance
P-15-0443 | 08/10/2022 | 90-Day Inhalation Toxicity Testing (OECD Test Guideline 413) | (G) Rare earth doped zirconium oxide.
P-16-0543 | 08/03/2022 | Industrial Hygiene Exposure Report | (G) Halogenophos­phoric acid metal salt.

If you are interested in information that is not included in these tables, you may contact EPA's technical information contact or general information contact as described under FOR FURTHER INFORMATION CONTACT to access additional non-CBI information that may be available.

Authority: 15 U.S.C. 2601 et seq.

Dated: September 15, 2022.
Pamela Myrick,
Director, Project Management and Operations Division, Office of Pollution Prevention and Toxics.

[FR Doc. 2022-20472 Filed 9-21-22; 8:45 am]

BILLING CODE 6560-50-P